DEPARTMENT OF COMMERCE

Foreign Trade Zones Board

Order No. 1499

Removal of Restriction

Foreign-Trade Subzone 29F, Hitachi Automotive Products, Inc., (Automotive Components), Harrodsburg, Kentucky

Pursuant to its authority under the Foreign-Trade Zones Act of June 18, 1934, as amended (19 U.S.C. 81a-81u), the Foreign-Trade Zones Board (the Board) adopts the following Order:

WHEREAS, Board Order 497 (56 FR 674, 1-8-1991) granted authority on behalf of Hitachi Automotive Products, Inc. (HAP), to manufacture automotive components under FTZ procedures subject to a restriction requiring that privileged foreign status must be elected on all foreign-origin inputs admitted to the subzone used in the manufacture of commodity-type (standard technology) automotive components;

WHEREAS, HAP, operator of Subzone 29F, has requested that the restriction be removed from Board Order 497 so that HAP may admit foreign-origin inputs used in the manufacture of commodity-type automotive components to Subzone 29F under nonprivileged foreign status (19 CFR § 146.42) (FTZ Docket 17-2006, filed 4-28-2006);

WHEREAS, notice inviting public comment was given in the Federal Register (71 FR 26924, 5-9-2006); and,

WHEREAS, the Board adopts the findings and recommendations of the examiner's report, and finds that the requirements of the FTZ Act and the Board's regulations are satisfied, and that approval of the request is in the public interest;

NOW THEREFORE, the Board hereby approves the request, as described in the application and Federal Register notice, subject to the FTZ Act and the Board's regulations, including Section 400.28.

Signed at Washington, DC, this 5th day of February 2007.

David M. Spooner,
Assistant Secretary of Commerce for Import Administration,Alternate Chairman Foreign-Trade Zones Board.
Attest:
Andrew McGilvray,
Executive Secretary.

[FR Doc. E7-2680 Filed 2-14-07; 8:45 am]

BILLING CODE 3510-DS-S